DEPARTMENT OF THE INTERIOR

Fish and Wildlife Service

[FWS-HQ-IA-2013-N130; FXIA16710900000P5-123-FF09A30000]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) the application was filed in good faith, (2) The granted permit would not operate to the disadvantage of the endangered species, and (3) The granted permit would be consistent with the purposes and policy set forth in section 2 of the ESA.

Permit No. | Applicant | Receipt of application Federal Register notice | Permit issuance date
Endangered Species
678490 | Knoxville Zoological Park | 77 FR 44264; July 27, 2012 | October 22, 2012.
724896 | Species Survival Fund | 77 FR 44264; July 27, 2012 | October 22, 2012.
73893A | A.C. Ranch | 77 FR 46514; August 3, 2012 | September 27, 2012.
75535A | Dub Wallace Ranch LLC | 77 FR 46514; August 3, 2012 | September 27, 2012.
73894A | A.C. Ranch | 77 FR 46514; August 3, 2012 | September 27, 2012.
75592A | Dub Wallace Ranch LLC | 77 FR 46514; August 3, 2012 | September 27, 2012.
79770A | Kansas O Bar Ranch LLC | 77 FR 49453; August 16, 2012 | September 27, 2012.
80109A | Paul Dickson | 77 FR 49453; August 16, 2012 | September 27, 2012.
79771A | Kansas O Bar Ranch LLC | 77 FR 49453; August 16, 2012 | September 27, 2012.
80201A | Kyle Lange | 77 FR 49453; August 16, 2012 | October 22, 2012.
80158A | Rancho Milagro | 77 FR 49453; August 16, 2012 | October 22, 2012.
030006 | Paul Bodnar | 77 FR 49453; August 16, 2012 | October 22, 2012.
80856A | Boulder Ridge Ranch, LLC | 77 FR 49453; August 16, 2012 | October 22, 2012.
81021A | Marc Cramer | 77 FR 49453; August 16, 2012 | October 22, 2012.
671564 | Fort Wayne Zoological Society | 77 FR 49453; August 16, 2012 | October 22, 2012.
80202A | Kyle Lange | 77 FR 49453; August 16, 2012 | October 22, 2012.
33472A | Karl Mogensen | 77 FR 49453; August 16, 2012 | October 22, 2012.
80510A | Joseph Patinio | 77 FR 49453; August 16, 2012 | October 22, 2012.
80160A | Rancho Milagro | 77 FR 49453; August 16, 2012 | October 22, 2012.
128506 | Robert Scott | 77 FR 49453; August 16, 2012 | October 22, 2012.
793116 | Nancy Speed | 77 FR 49453; August 16, 2012 | October 22, 2012.
680317 | Louisville Zoological Garden | 77 FR 51819; August 27, 2012 | October 22, 2012.
79430A | Bamberger Ranch Preserve | 77 FR 51819; August 27, 2012 | October 22, 2012.
79777A | Harkey Ranch Enterprises, LLC | 77 FR 51819; August 27, 2012 | October 22, 2012.
81003A | Erik Lacy | 77 FR 51819; August 27, 2012 | October 22, 2012.
74561A | Donald Palmerino | 77 FR 51819; August 27, 2012 | October 22, 2012.
81783A | La Coma The Red Gate Corporation | 77 FR 51819; August 27, 2012 | October 23, 2012.
81329A | Squaw Mountain Ranch Outfitters | 77 FR 51819; August 27, 2012 | October 23, 2012.
81673A | Tipurtu South Texas Investments, Ltd | 77 FR 51819; August 27, 2012 | October 23, 2012.
81782A | La Coma The Red Gate Corporation | 77 FR 51819; August 27, 2012 | October 23, 2012.
81327A | Squaw Mountain Ranch Outfitters | 77 FR 51819; August 27, 2012 | October 23, 2012.
81674A | Tipurtu South Texas Investments, Ltd | 77 FR 51819; August 27, 2012 | October 23, 2012.
81039A | Glades Herp, Inc | 77 FR 51819; August 27, 2012 | October 25, 2012.
81903A | Melissa White | 77 FR 51819; August 27, 2012 | October 25, 2012.
165748 | Valerie Holt | 77 FR 51819; August 27, 2012 | October 31, 2012.
691441 | Jackson Zoological Society, Inc | 77 FR 51819; August 27, 2012 | October 31, 2012.
82656A | Ryan Mcdonald | 77 FR 51819; August 27, 2012 | October 31, 2012.
704654 | Scovill Zoo | 77 FR 51819; August 27, 2012 | October 31, 2012.
81326A | Gomez Development LLC | 77 FR 51819; August 27, 2012 | November 2, 2012.
81324A | Gomez Development LLC | 77 FR 51819; August 27, 2012 | November 2, 2012.
77537A | Star S Ranch Inc | 77 FR 54604; September 5 2012 | October 18, 2012.
77536A | Star S Ranch Inc | 77 FR 54604; September 5 2012 | October 19, 2012.
81902A | Jim Beck | 77 FR 54604; September 5 2012 | October 23, 2012.
81901A | Jim Beck | 77 FR 54604; September 5 2012 | October 23, 2012.
83160A | Elizabeth Lyons Trust | 77 FR 54604; September 5 2012 | October 31, 2012.
82897A | Whitetail Junction Ranch | 77 FR 54604; September 5 2012 | October 31, 2012.
83159A | Elizabeth Lyons Trust | 77 FR 54604; September 5 2012 | October 31, 2012.
220871 | Lawrence Lerner | 77 FR 54604; September 5 2012 | October 31, 2012.
82527A | Whitetail Junction Ranch | 77 FR 54604; September 5 2012 | October 31, 2012.
63872A | Bar H Bar Land & Cattle Company | 77 FR 61627; October 10, 2012 | November 15, 2012.
83021A | La Coma Ranch, Inc | 77 FR 61627; October 10, 2012 | November 15, 2012.
63871A | Bar H Bar Land & Cattle Company | 77 FR 61627; October 10, 2012 | November 15, 2012.
83017A | K & R Ranch | 77 FR 61627; October 10, 2012 | November 15, 2012.
81989A | La Coma Ranch, Inc | 77 FR 61627; October 10, 2012 | November 15, 2012.
85525A | Burmont, Inc | 77 FR 61627; October 10, 2012 | November 16, 2012.
85528A | Ronald Rains | 77 FR 61627; October 10, 2012 | November 16, 2012.
83802A | Simon Ranch LLC | 77 FR 61627; October 10, 2012 | November 16, 2012.
84250A | Burmont, Inc | 77 FR 61627; October 10, 2012 | November 16, 2012.
681252 | Cincinnati Zoo & Botanical Garden | 77 FR 61627; October 10, 2012 | November 16, 2012.
679042 | Duke Lemur Center | 77 FR 61627; October 10, 2012 | November 16, 2012.
140165 | Loewengruber, Kevin Gerard | 77 FR 61627; October 10, 2012 | November 16, 2012.
19818A | Phoenix Herpetological Society, Inc | 77 FR 61627; October 10, 2012 | November 16, 2012.
85530A | Ronald Rains | 77 FR 61627; October 10, 2012 | November 16, 2012.
83803A | Simon Ranch LLC | 77 FR 61627; October 10, 2012 | November 16, 2012.
819063 | Tautphaus Park Zoo | 77 FR 61627; October 10, 2012 | November 16, 2012.
227200 | Kirk Thor | 77 FR 61627; October 10, 2012 | November 16, 2012.
668695 | Woodland Park Zoological Gardens | 77 FR 61627; October 10, 2012 | November 16, 2012.
89186A | Larry Johnson | 78 FR7447; February 1, 2013 | April 22, 2013.
76114A | Cincinnati Zoo and Botanical Garden | 78 FR 12778; February 25, 2013 | May 20, 2013.
96521A | Cincinnati Zoo and Botanical Garden | 78 FR 12778; February 25, 2013 | May 20, 2013.
97266A | Miami-Dade Zoological Park and Gardens | 78 FR 17711; March 22, 2013 | May 23, 2013.
022747 | Wade Harrell, Whooping Crane Coordinator, U.S. Fish Wildlife Service, Southwest Region | 78 FR 23286; April 18, 2013 | May 21, 2013.
Marine Mammals
166772 | University of Utah/The Natural History Museum of Utah | 78 FR 19731; April 2, 2013 | May 22, 2013.

Availability of Documents

Documents and other information submitted with these applications are available for review, subject to the requirements of the Privacy Act and Freedom of Information Act, by any party who submits a written request for a copy of such documents to: Division of Management Authority, U.S. Fish and Wildlife Service, 4401 North Fairfax Drive, Room 212, Arlington, VA 22203; fax (703) 358-2280.

Brenda Tapia,
Program Analyst/Data Administrator, Branch of Permits, Division of Management Authority.

[FR Doc. 2013-13406 Filed 6-5-13; 8:45 am]

BILLING CODE 4310-55-P